ENVIRONMENTAL PROTECTION AGENCY

40 CFR Parts 174 and 180

[EPA-HQ-OPP-2015-0032; FRL-9927-39]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before June 19, 2015.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Susan Lewis, Registration Division (RD) (7505P), main telephone number: (703) 305-7090; email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), 21 U.S.C. 346a, requesting the establishment or modification of regulations in 40 CFR part 174 and/or part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

New Tolerances

1. PP 4F8339. (EPA-HQ-OPP-2015-0215). Monsanto Company, 1300 I Street NW., Suite 450 East, Washington, DC 20005, requests to establish a tolerance in 40 CFR part 180 for residues of the sum of the nematicide, tioxazafen (MON 102100) (3-phenyl-5-(2-thienyl)-1,2,4-oxadiazole) and its metabolite, benzamidine (benzenecarboximidamide) in or on the following raw agricultural and processed commodities: Corn, field, forage at 0.01 parts per million (ppm); Corn, field, grain at 0.01 ppm; Corn, field, stover at 0.02 ppm; Cotton, gin byproducts at 0.02 ppm; Cotton, undelinted seed at 0.01 ppm; Soybean, forage at 0.15 ppm; Soybean, hay at 0.3 ppm; Soybean, meal at 0.05 ppm; Soybean, seed at 0.04 ppm; and in or on the following food commodities: Cattle, fat at 0.01 ppm; Cattle, meat at 0.01 ppm; Cattle, meat byproducts at 0.01 ppm; Goat, fat at 0.01 ppm; Goat, meat at 0.01 ppm; Goat, meat byproducts at 0.01 ppm; Horse, fat at 0.01 ppm; Horse, meat at 0.01 ppm; Horse, meat byproducts at 0.01 ppm; Milk at 0.01 ppm; Sheep, fat at 0.01 ppm; Sheep, meat at 0.01 ppm; and Sheep, meat byproducts at 0.01 ppm. The Monsanto Company has submitted an independently validated analytical method for the residue analysis of parent tioxazafen and its metabolite, benzamidine, in crop and processed commodities for corn, cotton, and soybean. Additionally, an independently validated method has been used in cattle and hen feeding studies for the analysis of residues in the food commodities animal meat, fat, liver, kidney, cream, and milk, and poultry meat, fat, liver, and eggs, and is proposed for enforcement of requested tolerances in animal food commodities. Contact: RD.

2. PP 4E8334. (EPA-HQ-OPP-2015-0035). Interregional Research Project Number 4 (IR-4), 500 College Road East, Suite 201W, Princeton, NJ 08540, requests to establish a tolerance in 40 CFR part 180 for residues of the herbicide clethodim, including its metabolites and degradates, determined by measuring only the sum of clethodim, 2-[(1E)-1-[[[(2E)-3-chloro-2-propenyl]oxy]imino]propyl]-5-[2-(ethylthio)propyl]-3-hydroxy-2-cyclohexen-1-one, and its metabolites containing the 5-(2-ethylthiopropyl)cyclohexene-3-one and 5-(2-ethylthiopropyl)-5-hydroxycyclohexene-3-one moieties and their sulphoxides and sulphones, calculated as the stoichiometric equivalent of clethodim, in or on the raw agricultural commodities: Onion, bulb subgroup 3-07A at 0.2 parts per million (ppm), Vegetable, fruiting group 08-10 at 1.0 ppm, Fruit, pome group 11-10 at 0.2 ppm, Fruit, stone group 12-12 at 0.2 ppm, Berry, low growing, subgroup 13-07G, except cranberry at 3.0 ppm, Rapeseed subgroup 20A, except flax at 0.5 ppm, Sunflower subgroup 20B at 5.0 ppm, Cottonseed subgroup 20C at 1.0 ppm and Stevia at 12 ppm. Analytical methodology has been developed and validated for enforcement purposes. The limit of quantitation (LOQ) of clethodim in the method(s) is 0.2 ppm, which will allow monitoring of food with residues at the levels proposed for the tolerances. Contact: RD.

3. PP 5E8349. (EPA-HQ-OPP-2015-0197). Interregional Research Project Number 4 (IR-4), 500 College Road East, Suite 201W, Princeton, NJ 08540, requests to establish a tolerance in 40 CFR part 180 for residues of the fungicide fluazinam (3-chloro-N-[3-chloro-2,6-dinitro-4-(trifluoromethyl)phenyl]-5-(trifluoromethyl)-2-pyridinamine), including its metabolites and degradates in or on mayhaw at 2.0 parts per million (ppm); cabbage at 3.0 ppm; the squash/cucumber subgroup 9B at 0.05 ppm; and vegetable, tuberous and corm, subgroup 1C at 0.02 ppm. An analytical method using LC-MS/MS for the determination of fluazinam and AMGT residues on cabbage, squash and cucumbers has been developed and validated. Contact: RD.

4. PP 5F8352. (EPA-HQ-OPP-2015-0263). ISK Biosciences Corporation, 7470 Auburn Road, Suite A, Concord, Ohio 44077, requests to establish a tolerance in 40 CFR part 180.601 for residues of the fungicide, cyazofamid, in or on Bulb Vegetables (Crop Group 3-07) at 2.0 parts per million (ppm). The residues are extracted with acetonitrile. After shaking and centrifugation, the extracts are diluted 4 fold with a 50% acetonitrile/water and filtered through a PTFE filter. The filtrate is diluted 5 fold with 50/50 acetonitrile/water. LC/MS/MS is used to measure and evaluate the chemicals cyazofamid and CCIM. Contact: RD.

5. PP 5E8350. (EPA-HQ-OPP-2015-0263). Interregional Research Project Number 4 (IR-4), 500 College Road East, Suite 201W, Princeton, NJ 08540, requests to establish a tolerance in 40 CFR part 180 for residues of the fungicide cyazofamid, 4-chloro-2-cyano-N,N-dimethyl-5-(4-methylphenyl)-1H-imidazole-1-sulfonamide and its metabolite 4-chloro-5-(4-methylphenyl)-1H-imidazole-2-carbonitrile, calculated as the stoichiometric equivalent of cyazofamid in or on the following raw agricultural commodity: Herb subgroup 19A at 90 parts per million (ppm). Analytical methodology has been developed and validated for enforcement purposes. Contact: RD.

6. PP 4E8337. (EPA-HQ-OPP-2015-0030). Interregional Research Project Number 4 (IR-4), 500 College Road East, Suite 201W, Princeton, NJ 08540, requests to establish a tolerance in 40 CFR part 180 for residues of carfentrazone-ethyl (ethyl-alpha-2-dichloro-5-[4-(difluoromethyl)-4,5-dihydro-3-methyl-5-oxo-1H-1,2,4-triazol-1-yl]-4-fluorobenzene-propanoate) and the metabolite carfentrazone-ethyl chloropropionic acid (α,2-dichloro-5-[4-(difluoromethyl)-4,5-dihydro-3-methyl-5-oxo-1H-1,2,4-triazol-1-yl]-4-fluorobenzenepropanoic acid)] in or on the raw agricultural commodity artichoke at 0.1 parts per million (ppm); asparagus at 0.25 ppm; peppermint, tops at 0.25 ppm; spearmint, tops at 0.25 ppm; teff, grain at 0.25 ppm; teff, forage at 1.00 ppm; teff, hay at 0.30 ppm; teff, straw at 0.10 ppm; vegetable, bulb, group 3-07 at 0.10 ppm; vegetable, fruiting, group 8-10 at 0.10 ppm; fruit, citrus, group 10-10 at 0.10 ppm; fruit, pome, group 11-10 at 0.10 ppm; fruit, stone, group 12-12 at 0.10 ppm; caneberry subgroup 13-07A at 0.10 ppm; bushberry subgroup 13-07B at 0.10 ppm; fruit, small vine climbing, subgroup 13-07F, except fuzzy kiwi fruit at 0.10 ppm; berry, low growing, subgroup 13-07G at 0.10 ppm; nut, tree, group 14-12 at 0.10 ppm; oilseed group 20 at 0.20 ppm; grain, cereal forage group 16 at 1.0 ppm; grain, cereal, hay, group 16 at 0.30 ppm; grain cereal, stover, group 16 at 0.80 ppm; and grain, cereal, straw, group 16 at 3.0 ppm. There is a practical analytical method for detecting and measuring levels of carfentrazone-ethyl and its metabolite in or on food with a limit of quantitation that allows monitoring of food with residues at or above the levels set or proposed in the tolerances. Contact: RD.

7. PP 4F8291. (EPA-HQ-OPP-2015-0012). Bayer CropScience, 2 T.W. Alexander Drive, P.O. Box 12014, Research Triangle Park, NC 27709, requests to establish a tolerance in 40 CFR part 180 for residues of the fungicide, pyrimethanil, in or on caneberry (subgroup 13-07A) at 15.0 parts per million (ppm) and bushberry (subgroup 13-07B) at 8.0 ppm. The HPLC/MS/MS is used to measure and evaluate the chemical pyrimethanil. Contact: RD.

Amended Tolerances

1. PP 5E8349. (EPA-HQ-OPP-2015-0197). Interregional Research Project Number 4 (IR-4), 500 College Road East, Suite 201W, Princeton, New Jersey 08540, requests to amend the tolerances in 40 CFR 180.574 for residues of the fungicide fluazinam (3-chloro-N-[3-chloro-2,6-dinitro-4-(trifluoromethyl)phenyl]-5-(trifluoromethyl)-2-pyridinamine), including its metabolites and degradates, in or on the vegetable, brassica leafy, group 5 at 0.01 by changing it to read “vegetable, brassica leafy, group 5, except cabbage” at 0.01 ppm and by removing the existing tolerance on potato at 0.02 ppm upon approval of the requested tolerance on the tuberous and corm subgroup 1C. An analytical method using LC-MS/MS for the determination of fluazinam and AMGT residues on cabbage, squash and cucumbers has been developed and validated. Contact: RD.

2. PP 4E8334. (EPA-HQ-OPP-2015-0035). IR-4, 500 College Road East, Suite 201W, Princeton, NJ 08540, requests to remove the existing tolerances in 40 CFR part 180.458 for residues of the herbicide clethodim, including its metabolites and degradates, determined by measuring only the sum of clethodim, 2-[(1E)-1-[[[(2E)-3-chloro-2-propenyl]oxy]imino]propyl]-5-[2-(ethylthio)propyl]-3-hydroxy-2-cyclohexen-1-one, and its metabolites containing the 5-(2-ethylthiopropyl)cyclohexene-3-one and 5-(2-ethylthiopropyl)-5-hydroxycyclohexene-3-one moieties and their sulphoxides and sulphones, calculated as the stoichiometric equivalent of clethodim, in or on the raw agricultural commodities: Canola seed, at 0.5 ppm, cotton, undelinted seed at 1.0 ppm, peach at 0.2 ppm, onion, bulb at 0.2 ppm, strawberry at 3.0 ppm, and sunflower, seed at 5.0 ppm, upon establishment of the aforementioned tolerances under “New Tolerances” above for this petition. Analytical methodology has been developed and validated for enforcement purposes. The limit of quantitation (LOQ) of clethodim in the method(s) is 0.2 ppm, which will allow monitoring of food with residues at the levels proposed for the tolerances. Contact: RD.

3. PP 5E8350. (EPA-HQ-OPP-2015-0263). Interregional Research Project Number 4 (IR-4), 500 College Road East, Suite 201W, Princeton, NJ 08540, requests to remove the existing tolerances in 40 CFR part 180.601 for residues of the fungicide cyazofamid, 4-chloro-2-cyano-N,N-dimethyl-5-(4-methylphenyl)-1H-imidazole-1-sulfonamide and its metabolite 4-chloro-5-(4-methylphenyl)-1H-imidazole-2-carbonitrile (CA), calculated as the stoichiometric equivalent of cyazofamid in or on basil, dried leaves at 90 parts per million (ppm); and basil, fresh leaves at 30 ppm, upon approval of the aforementioned tolerance on herb subgroup 19A. Analytical methodology has been developed and validated for enforcement purposes. Contact: RD.

4. PP 4E8337. (EPA-HQ-OPP-2015-0030). Interregional Research Project Number 4 (IR-4), 500 College Road East, Suite 201W, Princeton, NJ 08540, requests to amend the tolerances in 40 CFR 180.515 for residues of carfentrazone-ethyl (ethyl-alpha-2-dichloro-5-[4-(difluoromethyl)-4,5-dihydro-3-methyl-5-oxo-1H-1,2,4-triazol-1-yl]-4-fluorobenzene-propanoate) and the metabolite carfentrazone-ethyl chloropropionic acid (α,2-dichloro-5-[4-(difluoromethyl)-4,5-dihydro-3-methyl-5-oxo-1H-1,2,4-triazol-1-yl]-4-fluorobenzenepropanoic acid)] as follows: (1) To modify the existing tolerance for banana from 0.20 ppm to 0.10 ppm and (2) to remove the following established tolerances: Vegetable, bulb group 3 at 0.10 ppm; vegetable, fruiting, group 8 at 0.10 ppm; fruit, citrus, group 10 at 0.10 ppm; fruit, pome, group 11 at 0.10 ppm; fruit, stone, group 12 at 0.10 ppm; berry group 13 at 0.10 ppm; borage at 0.10 ppm; grape at 0.10 ppm; caneberry subgroup 13A at 0.10 ppm; nut, tree group 14 at 0.10 ppm; pistachio at 0.10 ppm; pummelo at 0.10 ppm; kiwi fruit at 0.10 ppm; canola at 0.10 ppm; cotton, undelinted seed at 0.20 ppm; crambe, seed at 0.10 ppm; flax, seed at 0.10 ppm; rapeseed, seed at 0.10 ppm; okra at 0.10 ppm; safflower seed at 0.10 ppm; salal at 0.10 ppm; sunflower seed at 0.10 ppm; strawberry at 0.10 ppm; juneberry at 0.10 ppm; lingonberry at 0.10 ppm; mustard, seed at 0.10 ppm; barley bran at 0.80 ppm; barley, flour at 0.80 ppm; corn, field, forage at 0.20 ppm; corn, sweet, forage at 0.20 ppm, corn, sweet, kernel plus cob with husk removed at 0.10 ppm; grain, cereal, forage, fodder and straw group 16, except corn and sorghum; forage at 1.0 ppm; grain, cereal, forage, fodder and straw, group 16, hay at 0.30 ppm; grain, cereal, forage, fodder and straw, group 16, stover at 0.30 ppm; grain, cereal, forage, fodder and straw, group 16, except rice; straw at 0.10 ppm; grain, cereal, group 15 at 0.10 ppm; grain, cereal, stover at 0.80 ppm; grain, cereal, straw at 3.0 ppm; millet, flour at 0.80 ppm; oat, flour at 0.80 ppm; rice, straw at 1.0 ppm; rye, bran at 0.80 ppm; rye, flour at 0.80 ppm; sorghum, forage at 0.20 ppm; sorghum, sweet at 0.10 ppm; wheat, bran at 0.80 ppm; wheat, flour at 0.80 ppm; wheat, germ at 0.80 ppm; wheat, middlings at 0.80 ppm; and wheat, shorts at 0.80 ppm. There is a practical analytical method for detecting and measuring levels of carfentrazone-ethyl and its metabolite in or on food with a limit of quantitation that allows monitoring of food with residues at or above the levels set or proposed in the tolerances. Contact: RD.

New Tolerance Exemptions

1. PP IN-10753. (EPA-HQ-OPP-2015-0214). Drexel Chemical Company, P.O. Box 13327, Memphis, TN 38113-0327, requests to establish an exemption from the requirement of a tolerance for residues of tetraethylene glycol (CAS Reg. No. 112-60-7) when used as an inert ingredient in pesticide formulations applied to growing crops only under 40 CFR 180.920. The petitioner believes no analytical method is needed because it is not required for an exemption from the requirement of a tolerance. Contact: RD.

2. PP IN-10759. (EPA-HQ-OPP-2015-0232). Cytec Industries Inc., 5 Garret Mountain Plaza Woodland Park, NJ 07424, requests to establish an exemption from the requirement of a tolerance for residues of poly(oxy-1,2-ethanediyl), α-(3-carboxy-1-oxosulfopropyl)-ω-hydroxy, alkyl ethers, disodium salts (CAS Reg. Nos. 68815-56-5, 68954-91-6, 1013906-64-3, 1024612-24-5), when used as an inert ingredient in pesticide formulations applied to growing crops and raw agricultural commodities under 40 CFR 180.910. The petitioner believes no analytical method is needed because it is not required for an exemption from the requirement of a tolerance. Contact: RD.

3. PP IN-10760. (EPA-HQ-OPP-2015-0213). Cytec Industries, Inc., 5 Garret Mountain Plaza, Woodland Park, NJ 07424, requests to establish an exemption from the requirement of a tolerance for residues of butanedioic acid, 2-sulfo-, C-C9-11-isoalkyl esters, C10-rich, disodium salts (CAS. Reg. No. 815583-91-6), when used as an inert ingredient in pesticide formulations applied to growing crops and raw agricultural commodities under 40 CFR 180.910. The petitioner believes no analytical method is needed because it is not required for an exemption from the requirement of a tolerance. Contact: RD.

4. PP IN-10792. (EPA-HQ-OPP-2015-0249). Clariant Corporation, 4000 Monroe Road, Charlotte, NC 28205, requests to establish an exemption from the requirement of a tolerance for residues, D-Glucitol, 1-deoxy-1-(methylamino)-, N-C8-10 acyl derivs. (CAS Reg. No. 1591782-62-5), when used as an inert ingredient in pesticide formulations applied to growing crops only under 40 CFR 180.920. The petitioner believes no analytical method is needed because it is not required for an exemption from the requirement of a tolerance. Contact: RD.

Authority: 21 U.S.C. 346a.

Dated: May 8, 2015.
G. Jeffrey Herndon,
Acting Director, Registration Division, Office of Pesticide Programs.

[FR Doc. 2015-12238 Filed 5-19-15; 8:45 am]

BILLING CODE 6560-50-P